DEPARTMENT OF COMMERCE

Foreign-Trade Zones Board

[B-32-2025]

Foreign-Trade Zone (FTZ) 193, Notification of Proposed Production Activity; Lithionics Battery, LLC; (Lithium-Ion Battery Systems and Accessories); Clearwater, Florida

Lithionics Battery, LLC (Lithionics) submitted a notification of proposed production activity to the FTZ Board (the Board) for its facilities in Clearwater, Florida within Subzone 193C. The notification conforming to the requirements of the Board's regulations (15 CFR 400.22) was received on June 13, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: lithium-ion battery panel assembly displays, vent enclosure assemblies, chargers, wiring harnesses, cores, modules, reception apparatuses, data management systems, heater thermostat kits, combiner boxes, processor and accessories kits; busbar riser kits; lifting straps with hardware kits; direct current (DC) converters; and, circuit breaker enclosures (duty rate ranges from duty-free to 5.8%).

The proposed foreign-status materials/components include: thermal pads; thermal foams; bluetooth removable media; steel binding brackets; threaded mounting adapters; aluminum support rods; aluminum binding insulators; nylon insulators; aluminum support boards; inverters; static converters; lithium-ion batteries; lithium-ion battery modules; alternators; electromagnetic contactors; electrical pin contacts; backing plates; binding plates; adapters; busbar risers; copper busbars; compression plates; copper spacers; copper bus strips; copper shims; nickel plated bus strips; nickel plated busbars; nickel plated over-grid jumpers; panel plates; protection plates; printed circuit board assemblies; wire harnesses; terminators; insulator plates; plastic mounting holders; and, battery cell top support bars (duty rate ranges from duty-free to 5.3%). The request indicates that certain materials/components are subject to duties under section 1702(a)(1)(B) of the International Emergency Economic Powers Act (section 1702), section 232 of the Trade Expansion Act of 1962 (section 232) and section 301 of the Trade Act of 1974 (section 301), depending on the country of origin. The applicable section 1702, section 232 and section 301 decisions require subject merchandise to be admitted to FTZs in privileged foreign status (19 CFR 146.41).

Public comment is invited from interested parties. Submissions shall be addressed to the Board's Executive Secretary and sent to: ftz@trade.gov. The closing period for their receipt is August 5, 2025.

A copy of the notification will be available for public inspection in the “Online FTZ Information System” section of the Board's website.

For further information, contact Christopher Wedderburn at Chris.Wedderburn@trade.gov.

Dated: June 23, 2025.
Elizabeth Whiteman,
Executive Secretary.

[FR Doc. 2025-11751 Filed 6-25-25; 8:45 am]

BILLING CODE 3510-DS-P